DEPARTMENT OF JUSTICE

Antitrust Division

Notice Pursuant to the National Cooperative Research and Production Act of 1993—Telemanagement Forum

Notice is hereby given that, on November 25, 2019, pursuant to Section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances.

Specifically, the following entities have become members of The Forum: Passionate About OSS, Melbourne, AUSTRALIA; ITEA Technologies LLC, Richardson, TX; Zhongguancun Sifang Model Service Industry Technology Strategic Alliance, Beijing, PEOPLE'S REPUBLIC OF CHINA; Skytel, Ulaanbaatar, MONGOLIA; Fujian Newland Software Engineering Co., Ltd., Fuzhou, PEOPLE'S REPUBLIC OF CHINA; DATASPARK PTE LTD, Singapore, SINGAPORE; Beijing Tianyuan DIC Information Technology Co. Ltd., Beijing, PEOPLE'S REPUBLIC OF CHINA; Millicom International Cellular S.A., Luxembourg, LUXEMBOURG; Futurewei Technologies, Inc., Santa Clara, CA; Macellan, Montreal, CANADA; VETRO FiberMap, Portland, ME; Embrix Inc., Irving, TX; Extended Systems Inc., McCall, ID; Wavenet International (PVT) Limited, Colombo, SRI LANKA; VMware, Inc., Palo Alto, CA; Vector Communications Ltd, Auckland, NEW ZEALAND; Alepo USA, Austin, TX; Mariner Partners, Saint John, CANADA; Minima Global, London, UNITED KINGDOM; and TalkTalk Group, London, UNITED KINGDOM.

Also, the following members have changed their names: Torry Harris Business Solutions Pvt Ltd to Torry Harris Integrated Solutions Pvt Ltd, Bangalore, INDIA; Nethys SA—Betv/VOO to VOO SA, Liege, BELGIUM; AsiaInfo, Inc. to AsiaInfo Technologies Limited, Haidian District, PEOPLE'S REPUBLIC OF CHINA; OgilvyOne Worldwide S.A. to FIWARE, Madrid, SPAIN; and Bulb Technologies Inc. to Bulb Technologies Ltd., Zagreb, CROATIA.

In addition, the following parties have withdrawn as parties to this venture: BlueTechnology Corp, Taipei City, TAIWAN ROC; CableLabs, Inc., Louisville, CO; Civimetrix Telecom, Magog, CANADA; Fair Isaac Corporation, San Diego, CA; FRiENDi GROUP, Dubai internet City, UNITED ARAB EMIRATES; Fundação Para Inovações Tecnológicas FITec, Recife, BRAZIL; FusionLayer, Inc., Espoo, FINLAND; Ipronto Communications B.V., Rotterdam, NETHERLANDS; Isoton Pty Ltd, Adelaide, AUSTRALIA; Liverpool John Moores University—School of Computing & Maths, Liverpool, UNITED KINGDOM; NaviParking, Gliwice, POLAND; Ontix, London, UNITED KINGDOM; Qualycloud, Paris, FRANCE; Quob Park Estate, Wickham, UNITED KINGDOM; Savvi AU Pty Ltd, Melbourne, AUSTRALIA; Sinefa, Bulleen, AUSTRALIA; Smart Social City, Madrid, SPAIN; Truphone Ltd, London, UNITED KINGDOM; Ushacomm© (Redtech Network India Private Limited), Kolkata, INDIA; and Zambia Telecommunications Company, Lusaka, ZAMBIA.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on September 16, 2019. A notice was published in the Federal Register pursuant to Section 6(b) of the Act on October 30, 2019 (84 FR 58174).

Suzanne Morris,
Chief, Premerger and Division Statistics Unit, Antitrust Division.

[FR Doc. 2019-27518 Filed 12-19-19; 8:45 am]

BILLING CODE 4410-11-P